DEPARTMENT OF LABOR

Occupational Safety and Health Administration

29 CFR Part 1926

[Docket No. OSHA-2011-0184]

RIN 1218-AC65

Updating OSHA Construction Standards Based on National Consensus Standards; Head Protection; Correction of Notice of Proposed Rulemaking

AGENCY: Occupational Safety and Health Administration (OSHA), Department of Labor.

ACTION: Notice of proposed rulemaking; correction.

SUMMARY: OSHA is correcting a notice of proposed rulemaking (NPRM) with regard to the construction industry head protection standards to eliminate confusion resulting from a drafting error. OSHA published the NPRM on June 22, 2012 (77 FR 37617). OSHA also is publishing a correction to the direct final rule that it published the same day in the Federal Register (77 FR 37587).

FOR FURTHER INFORMATION CONTACT: General information and press inquiries: Contact Frank Meilinger, OSHA Office of Communications, Room N-3647, U.S. Department of Labor, 200 Constitution Ave. NW., Washington, DC 20210; telephone: (202) 693-1999; email: meilinger.francis2@dol.gov.

Technical inquiries: Contact Kenneth Stevanus, Directorate of Standards and Guidance, Room N-3609, OSHA, U.S. Department of Labor, 200 Constitution Ave. NW., Washington, DC 20210; telephone: (202) 693-2260; fax: (202) 693-1663; email: stevanus.ken@dol.gov.

SUPPLEMENTARY INFORMATION: OSHA is making the following correction in FR document number 2012-15031, appearing on page 37630 in the Federal Register of Friday, June 22, 2012:

§ 1926.100 [Corrected]

On page 37630, correct instruction number 16, to read as follows:

16. Amend § 1926.100 as follows:

a. Remove paragraph (c).

b. Revise paragraph (b) to read as follows:

1926.100 Head protection.

* * * * *

(b) Criteria for head protection. (1) The employer must provide each employee with head protection that meets the specifications contained in any of the following consensus standards:

(i) American National Standards Institute (ANSI) Z89.1-2009, “American National Standard for Industrial Head Protection,” incorporated by reference in § 1926.6;

(ii) American National Standards Institute (ANSI) Z89.1-2003, “American National Standard for Industrial Head Protection,” incorporated by reference in § 1926.6; or

(iii) American National Standards Institute (ANSI) Z89.1-1997, “American National Standard for Personnel Protection—Protective Headwear for Industrial Workers—Requirements,” incorporated by reference in § 1926.6.

(2) The employer must ensure that the head protection provided for each employee exposed to high-voltage electric shock and burns also meets the specifications contained in Section 9.7 (“Electrical Insulation”) of any of the consensus standards identified in paragraph (b)(1) of this section.

(3) OSHA will deem any head protection device that the employer demonstrates is at least as effective as a head protection device constructed in accordance with one of the consensus standards identified in paragraph (b)(1) of this section to be in compliance with the requirements of this section.

Signed at Washington, DC on July 17, 2012.
David Michaels,
Assistant Secretary of Labor for Occupational Safety and Health.

[FR Doc. 2012-17871 Filed 7-20-12; 8:45 am]

BILLING CODE P